DEPARTMENT OF HEALTH AND HUMAN SERVICES

Food and Drug Administration

[Docket No. FDA-2009-N-0409]

Request for Notification From Industry Organizations Interested in Participating in the Selection Process for a Pool of Nonvoting Industry Representatives for the Risk Communication Advisory Committee and Request for Nominations for Nonvoting Industry Representatives for the Risk Communication Advisory Committee

AGENCY: Food and Drug Administration, HHS.

ACTION: Notice.

SUMMARY: The Food and Drug Administration (FDA) is requesting that any industry organizations interested in participating in the selection of a pool of nonvoting industry representative candidates available to serve as temporary nonvoting members on its Risk Communication Advisory Committee (the Committee) for the Office of the Commissioner notify FDA in writing. A nominee may either be self-nominated or nominated by an organization to serve as a nonvoting industry representative. Nominations for the pool will be accepted effective with this notice.

DATES: Any industry organization interested in participating in the selection of a pool of appropriate candidates for temporary nonvoting membership to represent industry interests must send a letter stating the interest to FDA by October 9, 2009, for vacancies listed in the notice. Concurrently, nomination material for prospective candidates should be sent to FDA by October 9, 2009.

ADDRESSES: All letters of interest and nominations should be submitted in writing to Lee L. Zwanziger (see FOR FURTHER INFORMATION CONTACT).

FOR FURTHER INFORMATION CONTACT: Lee L. Zwanziger, Office of Policy, Planning and Budget, Office of the Commissioner, Food and Drug Administration, 5600 Fishers Lane, rm. 14-90, 301-827-2895, fax: 301-827-4050, RCAC@fda.hhs.gov.

SUPPLEMENTARY INFORMATION: The agency requests nominations for a pool of nonvoting industry representative candidates for the Risk Communication Advisory Committee.

I. The Risk Communication Advisory Committee

The Risk Communication Advisory Committee advises the Commissioner of Food and Drugs and designees on strategies and programs designed to communicate with the public about the risks and benefits of FDA-regulated products so as to facilitate optimal use of these products. The Committee also reviews and evaluates research relevant to such communication to the public by both FDA and other entities. The Committee also facilitates interactively sharing risk and benefit information with the public to enable people to make informed independent judgments about use of FDA-regulated products.

The FDA hopes to identify a pool of individuals who would have expertise in risk communication and would be identified with the interests of various segments of regulated industry. The Commissioner, or designee, shall have the authority to select one or more individuals to serve temporarily as nonvoting members; the number of temporary members selected for a particular meeting will depend on the meeting topic(s).

II. Selection Procedure

Any industry organization interested in participating in the selection of appropriate nonvoting member candidates to represent industry interests should send a letter stating that interest to the FDA contact (see ADDRESSES) within 30 days of publication of this document (see DATES). Within the subsequent 30 days, FDA will send a letter to each organization that has expressed an interest, attaching a complete list of all such organizations, and a list of all nominees along with their current resumes. The letter will also state that it is the responsibility of the interested organizations in each industry segment to confer with one another and to select one or two candidates (allowing for an alternate) from the segment for the pool within 60 days after the receipt of the FDA letter. For this purpose, “segments” should be understood in correspondence with the eight links listed on the FDA Web site: Food; drugs; medical devices; vaccines, blood and biologics; animal and veterinary; cosmetics; radiation-emitting products; and tobacco products (http://www.fda.gov). The interested organizations are not bound by the list of nominees in selecting candidates. However, if no individuals are selected within 60 days, the Commissioner of Food and Drugs will select temporary nonvoting members as needed to represent industry interests.

III. Application Procedure

Individuals may self-nominate and/or an organization may nominate one or more individuals to serve as a nonvoting industry representative. Within the 30 days, the following information should be sent to the FDA contact person: A current curriculum vitae of each nominee, current business and/or home address, telephone number, e-mail address, and the name of the committee of interest. FDA will forward all nominations to the organizations expressing interest in participating in the selection process for the committee. (Persons who nominate themselves as nonvoting industry representatives will not participate in the selection process).

FDA has a special interest in ensuring that women, minority groups, individuals with physical disabilities and small businesses are adequately represented on its advisory committees, and therefore, encourages, nominations for appropriately qualified candidates from these groups.

This notice is issued under the Federal Advisory Committee Act (5 U.S.C. app. 2) and 21 CFR part 14, relating to advisory committees.

Dated: September 2, 2009.
David Horowitz,
Assistant Commissioner for Policy.

[FR Doc. E9-21554 Filed 9-8-09; 8:45 am]

BILLING CODE 4160-01-S